DEPARTMENT OF COMMERCE

National Oceanic and Atmospheric Administration

50 CFR Part 648

[Docket No. 130408348-3835-02]

RIN 0648-XC894

Fisheries of the Northeastern United States; Atlantic Herring Fishery; Removal of 2,000-lb (907.2-kg) Herring Trip Limit in Atlantic Herring Management Area 2

AGENCY: National Marine Fisheries Service (NMFS), National Oceanic and Atmospheric Administration (NOAA), Commerce.

ACTION: Temporary rule.

SUMMARY: NMFS announces a temporary removal of the 2,000-lb (907.2 kg) trip limit for the Atlantic herring fishery in Management Area 2 (Area 2) because catch data indicate that 95 percent of the total sub-annual catch limit (sub-ACL) threshold in Area 2 has not been fully attained. Vessels issued a Federal permit to harvest Atlantic herring may resume fishing for and landing herring in amounts greater than 2,000 lb (907.2 kg), consistent with their respective Atlantic herring permit categories, effective 0001 hrs, October 1, 2013.

DATES: Effective 0001 hours, October 1, 2013, through December 31, 2013.

FOR FURTHER INFORMATION CONTACT: Christopher Biegel, Fishery Management Specialist, 978-675-9112.

SUPPLEMENTARY INFORMATION: Regulations governing the Atlantic herring fishery are found at 50 CFR part 648. The regulations require annual specification of optimum yield, domestic and foreign fishing, domestic and joint venture processing, and management area sub-ACLs. Final herring specifications for 2013-2015 set the total 2013 total herring ACL at 107,800 mt, allocated to the herring management areas as follows: 29,775 mt to Area 1A; 4,600 mt to Area 1B; 30,000 mt to Area 2; and 42,000 mt to Area 3. This is an increase in the sub-ACL's that had rolled over at the start of the herring fishing year (FY).

Regulations at § 648.201(a) require NMFS to monitor catch from the herring fishery in each of the herring management areas, using dealer reports, state data, and other available information, to determine when the catch of herring is projected to reach 92 percent of the sub-ACL allocated. When such a determination is made, NMFS is required to prohibit, through publication in the Federal Register, herring vessel permit holders from fishing for, catching, possessing, transferring, or landing more than 2,000 lb (907.2 kg) of herring, per trip or calendar day, in or from the specified management area for the remainder of the closure period, with the exception of transiting as described below.

NMFS published a temporary rule, effective April 7, 2013, in the Federal Register (78 FR 21071, April 9, 2013) projecting that 95 percent (the closure threshold at the time) of the Area 2 sub-ACL had been harvested. Based upon information indicating that 95 percent of the sub-ACL would be reached by April 7, 2013, the temporary rule reduced the herring trip limit for all federally permitted herring vessels to 2,000 lb (907.2 kg) per trip in Area 2; the trip limit reduction was to be effective through December 31, 2013.

Upon implementation of the herring specifications for 2013-2015, the NMFS Northeast Regional Administrator determined, based upon dealer reports and other available information, that the herring fleet had not yet taken 92 percent of the new Area 2 sub-ACL as of September 25, 2013, and that there was approximately 6,079 mt of Atlantic herring quota still available in Area 2. Therefore, to ensure that the herring fleet is able to take up to 92 percent of the Area 2 sub-ACL, consistent with applicable regulations and trip limits, this action removes the 2,000-lb (907.2-kg) trip limit implemented on April 7, 2013, and restores the trip limits, if any, in effect before April 7, 2013, at 0001 hours October 1, 2013. This means that, effective 0001 hrs, October 1, 2013, vessels issued an All Areas Limited Access Herring Permit are authorized to fish for, possess, or land Atlantic herring with no possession restrictions; vessels issued an Areas 2 and 3 Limited Access Herring Permit are authorized to fish for, possess, or land Atlantic herring only if issued an open access herring permit or a Limited Access Incidental Catch Permit; vessels issued a Limited Access Incidental Catch Herring Permit are authorized to fish for, possess, or land up to 55,000 lb (25 mt); and vessels issued an open access herring permit may not fish for, possess, or land more than 6,600 lb (3 mt) of Atlantic herring in Area 2.

Effective 0001 hrs, October 1, 2013, federally permitted dealers are advised that they may purchase more than 2,000 lb (907.2 kg) of Atlantic herring caught in Area 2 by federally permitted vessels.

Classification

This action is taken under 50 CFR part 648 and is exempt from review under E.O. 12866. The Assistant Administrator for Fisheries, NOAA (AA), finds good cause pursuant to 5 U.S.C. 553(b)(B) to waive prior notice and the opportunity for public comment because it would be contrary to the public interest. This action removes the 2,000-lb (907.2-kg) herring trip limit in Area 2 at 0001 hours October 1, 2013. The Atlantic herring fishery opened for FY 2013 at 0001 hrs on January 1, 2013. The Atlantic herring fleet was prohibited from fishing for, catching, possessing, transferring, or landing more than 2,000 lb (907.2 mt) per trip or calendar day on April 7, 2013, based on projections that 95 percent of the available Area 2 herring sub-ACL had been harvested. If implementation of this temporary removal of the 2,000-lb (907.2-kg) trip limit is delayed to solicit prior public comment, the remaining quota may not be fully harvested before the end of FY 2013 on December 31. The AA finds, pursuant to 5 U.S.C. 553(d)(3), good cause to waive the 30-day delayed effectiveness period for the reasons stated above.

Authority: 16 U.S.C. 1801 et seq.

Dated: September 30, 2013.
Kelly Denit,
Acting Deputy Director, Office of Sustainable Fisheries, National Marine Fisheries Service.

[FR Doc. 2013-24283 Filed 9-30-13; 4:15 pm]

BILLING CODE 3510-22-P